DEPARTMENT OF COMMERCE

National Oceanic and Atmospheric Administration

RIN 0648-XC530

North Pacific Fishery Management Council; Public Meeting

AGENCY: National Marine Fisheries Service (NMFS), National Oceanic and Atmospheric Administration (NOAA), Commerce.

ACTION: Notice of a public committee meeting.

SUMMARY: The North Pacific Fishery Management Council's (Council) Steller Sea Lion Mitigation Committee (SSLMC) will meet in Anchorage, AK.

DATES: The meeting will be held on March 21-22, 2013, from 8 a.m. to 5 p.m., each day.

ADDRESSES: The meeting will be held in the North Pacific Research Board conference room, 100 W. 3rd Avenue, #1007, Anchorage, AK.

Council address: North Pacific Fishery Management Council, 605 W. 4th Ave., Suite 306, Anchorage, AK 99501-2252.

FOR FURTHER INFORMATION CONTACT: Steve MacLean, NPFMC; telephone: (907) 271-2809.

SUPPLEMENTARY INFORMATION: The purpose of the meeting is to review and discuss the draft Steller Sea Lion Mitigation Measures Environmental Impact Statement, and to develop comments for the Council. Additional information is posted on the Council Web site: http://www.alaskafisheries.noaa.gov/npfmc/. The meeting will be webcast at http://npfmc.webex.com to allow the public to watch and hear presentations. Comments will not be accepted via Webcast or teleconference.

Special Accommodations

These meetings are physically accessible to people with disabilities. Requests for sign language interpretation or other auxiliary aids should be directed to Gail Bendixen, (907) 271-2809, at least 5 working days prior to the meeting date.

Dated: February 26, 2013.
Tracey L. Thompson,
Acting Deputy Director, Office of Sustainable Fisheries, National Marine Fisheries Service.

[FR Doc. 2013-04809 Filed 2-28-13; 8:45 am]

BILLING CODE 3510-22-P